DEPARTMENT OF THE INTERIOR

Fish and Wildlife Service

Aquatic Nuisance Species Task Force Gulf of Mexico Regional Panel Meeting

AGENCY: Fish and Wildlife Service, Interior.

ACTION: Notice of meeting.

SUMMARY: This notice announces a meeting of the Aquatic Nuisance Species (ANS) Task Force Gulf of Mexico Regional Panel. The meeting topics are identified in the SUPPLEMENTARY INFORMATION:.

DATES: The Gulf of Mexico Regional Panel will meet from 9 a.m. to 5 p.m. on Wednesday, February 26, 2003, and 8:30 a.m. to noon, on Thursday, February 27, 2003.

ADDRESSES: The Gulf of Mexico Regional Panel meeting will be held at the Springhill Suites, 24 Via De Luna, Pensacola Beach, Florida 32561. Phone 850-932-6000.

FOR FURTHER INFORMATION CONTACT: Ron Lukens, Assistant Director, Gulf States Marine Fisheries Commission at 228-875-5912 or Sharon Gross, Executive Secretary, Aquatic Nuisance Species Task Force at 703-358-2308.

SUPPLEMENTARY INFORMATION: Pursuant to section 10(a)(2) of the Federal Advisory Committee Act (5 U.S.C. App. I), this notice announces meetings of the Aquatic Nuisance Species Task Force Gulf of Mexico Regional Panel. The Task Force was established by the Nonindigenous Aquatic Nuisance Prevention and Control Act of 1990.

The Gulf of Mexico Regional Panel was established under the auspices of the ANS Task Force in 2000 with administration and coordination provided by the Gulf States Marine Fisheries Commission. The purpose of the Panel is to advise and make recommendations to the Aquatic Nuisance Species Task Force on issues relating to the Gulf of Mexico region of the Untied States that includes five Gulf States: Alabama, Florida, Louisiana, Mississippi, and Texas. The Gulf of Mexico Regional Panel will discuss several topics at this meeting including: status of coordination of aquatic invasive species prevention, control, research, and outreach efforts; an update from Panel working groups; status and discussion of national legislation regarding aquatic invasive species; updates on the development of State ANS Plans; and a discussion of the 2002 Annual Report.

Minutes of the meeting will be maintained by the Executive Secretary, Aquatic Nuisance Species Task Force, Suite 810, 4401 North Fairfax Drive, Arlington, Virginia 22203-1622, and will be available for public inspection during regular business hours, Monday through Friday.

Dated: January 30, 2003.
Cathleen I. Short,
Co-Chair, Aquatic Nuisance Species Task Force, Assistant Director—Fisheries and Habitat Conservation.

[FR Doc. 03-3744 Filed 2-13-03; 8:45 am]

BILLING CODE 4310-55-M